DEPARTMENT OF COMMERCE

National Telecommunications and Information Administration

The National Strategy To Secure 5G Industry Listening

AGENCY: National Telecommunications and Information Administration, U.S. Department of Commerce.

ACTION: Notice of open meeting.

SUMMARY: The National Telecommunications and Information Administration (NTIA) will convene two virtual industry roundtable listening sessions on aspects of the implementation plan of the Secure 5G Strategy.

DATES: The meetings will be held on January 28 and February 25, 2021, from 10:00 a.m. to 12:00 p.m., Eastern Standard Time.

ADDRESSES: The meetings will be held virtually, with online slide share and dial-in information to be posted at https://www.ntia.gov/.

FOR FURTHER INFORMATION CONTACT: Travis Hall, National Telecommunications and Information Administration, U.S. Department of Commerce, 1401 Constitution Avenue NW, Room 4725, Washington, DC 20230; telephone: (202) 482-3522; email: thall@ntia.gov. Please direct media inquiries to NTIA's Office of Public Affairs: (202) 482-7002; email: press@ntia.gov.

SUPPLEMENTARY INFORMATION:

Background and Authority: On March 25, 2020, the President signed into law the Secure 5G and Beyond Act of 2020, Public Law 116-129 (Act), which required the development of a strategy to ensure the security of next generation wireless communications systems and infrastructure.¹

¹ Secure 5G and Beyond Act of 2020, Public Law 116-129, 134 Stat. 223-227 (2020) (Act).

On the same day, and in fulfilment of the requirement established by the Act, the Administration published the National Strategy to Secure 5G of the United States of America (Strategy).² In so doing, the Administration recognizes both the importance of fifth generation wireless technologies (also known as 5G) to the future prosperity and security of the United States, as well as the risks and vulnerabilities posed by malicious actors that will seek to exploit these technologies. The Strategy is focused on four areas: (1) Facilitating domestic 5G rollout; (2) assessing the cybersecurity risks to and identifying core security principles of 5G capabilities and infrastructure; (3) addressing risks to United States economic and national security during development and deployment of 5G infrastructure worldwide; and (4) promoting responsible global development and deployment of secure and reliable 5G infrastructure. In accordance with both the Act and the Strategy, the National Security and National Economic Councils are developing an Implementation Plan, in consultation with relevant Departments and Agencies, to execute the actions identified to secure 5G infrastructure and development.

² See, The National Strategy to Secure 5G of the United States of America, March 2020, available at https://www.whitehouse.gov/wp-content/uploads/2020/03/National-Strategy-5G-Final.pdf.

In accordance with the Act, NTIA published a Request for Comment on March 28th, 2020,³ and posted the responses on June 29th, 2020.⁴ To assist in the implementation of the strategy NTIA will conduct industry engagement and listening sessions with 5G industry groups and manufacturers to formulate policy approaches for market incentives to do the following: Leverage trusted domestic and international partner suppliers; close 5G security gaps; and ensure domestic industrial base viability. To this end, NTIA will convene two virtual roundtables. The January 28 roundtable will focus on market incentives for 5G security. The February 25 roundtable will focus on principles for fostering global 5G vendor diversity and open, interoperable architectures. The discussions held at these roundtables will be analyzed and turned into a report to help the Administration further develop its policy approach to the secure development and deployment of 5G.

³ See, 85 FR 32016, 103 (May 28, 2020) available at https://www.ntia.doc.gov/files/ntia/publications/fr-secure-5g-implementation-plan-05282020.pdf.

⁴ See https://www.ntia.doc.gov/federal-register-notice/2020/comments-national-strategy-secure-5g-implementation-plan.

Time and Date: NTIA will convene the roundtable listening session on January 28 and February 25, from 10:00 a.m. to 12:00 p.m. Eastern Standard Time. The exact time of the meeting is subject to change. Please refer to NTIA's website, https://www.ntia.gov, for the most current information.

Place: The meeting will be held virtually, with online slide share and dial-in information to be posted at https://www.ntia.gov. Please refer to NTIA's website, https://www.ntia.gov, for the most current information.

Other Information: The meeting is open to the public and the press on a first-come, first-served basis. The virtual meeting is accessible to people with disabilities. Individuals requiring accommodations such as real-time captioning, sign language interpretation or other ancillary aids should notify Travis Hall at (202) 482-3522 or thall@ntia.gov at least seven (7) business days prior to the meeting. Access details for the meeting are subject to change. Please refer to NTIA's website, https://www.ntia.gov/, for the most current information.

Dated: December 10, 2020.
Kathy D. Smith,
Chief Counsel, National Telecommunications and Information Administration.

[FR Doc. 2020-27609 Filed 12-15-20; 8:45 am]

BILLING CODE 3510-60-P